DEPARTMENT OF HEALTH AND HUMAN SERVICES

National Institutes of Health

Center for Scientific Review; Amended Notice of Meeting

Notice is hereby given of a change in the meeting of the Center for Scientific Review Special Emphasis Panel, November 5, 2009, 8 a.m. to November 6, 2009, 5:00 PM, Hotel Nikko San Francisco, 222 Mason Street, San Francisco, CA, 94102 which was published in the Federal Register on October 2, 2009, 74 FR 50975-50977.

The meeting title has been changed to “Fellowship: Cell Biology and Development”. The meeting is closed to the public.

Dated: October 9, 2009.
Jennifer Spaeth,
Director, Office of Federal Advisory Committee Policy.

[FR Doc. E9-24975 Filed 10-15-09; 8:45 am]

BILLING CODE 4140-01-P